NUCLEAR REGULATORY COMMISSION

[Docket No. NRC-2011-0092]

Agency Information Collection Activities: Submission for the Office of Management and Budget (OMB) Review; Comment Request

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register Notice with a 60-day comment period on this information collection on May 6, 2011.

1. Type of submission, new, revision, or extension: Extension.

2. The title of the information collection: NRC Form 536, “Operator Licensing Examination Data.”

3. Current OMB approval number: 3150-0131.

4. The form number if applicable: NRC Form 536.

5. How often the collection is required: Annually.

6. Who will be required or asked to report: All holders of operating licenses for nuclear power reactors under the provision of Title 10 of the Code of Federal Regulations (10 CFR) Part 50, “Domestic Licensing of Production and Utilization Facilities,” except those who have permanently ceased operations and have certified that fuel has been permanently removed from the reactor vessel, and all holders of or applicants for a limited work authorization, early site permits, or combined license issued under 10 CFR Part 52, “Licenses, Certifications and Approval for Nuclear Power Plants.”

7. An estimate of the number of annual responses: 110.

8. The estimated number of annual respondents: 110.

9. An estimate of the total number of hours needed annually to complete the requirement or request: 110.

10. Abstract: The NRC is requesting renewal of its clearance to annually request all commercial power reactor licensees and applicants for an operating license to voluntarily send to the NRC: (1) Their projected number of candidates for initial operator licensing examinations; (2) the estimated dates of the examinations; (3) if the examinations will be facility developed or NRC developed; and (4) the estimated number of individuals that will participate in the Generic Fundamentals Examination (GFE) for that calendar year. Except for the GFE, this information is used to plan budgets and resources in regard to operator examination scheduling in order to meet the needs of the nuclear power industry.

The public may examine and have copied for a fee publicly available documents, including the final supporting statement, at the NRC's Public Document Room, Room O-1F21, One White Flint North, 11555 Rockville Pike, Rockville, Maryland 20852. OMB clearance requests are available at the NRC Web site: http://www.nrc.gov/public-involve/doc-comment/omb/index.html. The document will be available on the NRC home page site for 60 days after the signature date of this notice.

Comments and questions should be directed to the OMB reviewer listed below by August 22, 2011. Comments received after this date will be considered if it is practical to do so, but assurance of consideration cannot be given to comments received after this date.

Christine J. Kymn, Desk Officer, Office of Information and Regulatory Affairs (3150-0131), NEOB-10202, Office of Management and Budget, Washington, DC 20503.

Comments can also be e-mailed to Christine_J._Kymn@omb.eop.gov or submitted by telephone at 202-395-4638.

The NRC Clearance Officer is Tremaine Donnell, 301-415-6258.

Dated at Rockville, Maryland, this 15th day of July, 2011.
For the Nuclear Regulatory Commission.
Tremaine Donnell,
NRC Clearance Officer, Office of Information Services.

[FR Doc. 2011-18333 Filed 7-20-11; 8:45 am]

BILLING CODE 7590-01-P